FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 002105F

Name: A.P. Champagne Co., Inc.

Address: 822 Perdido Street, Suite 301, New Orleans, LA 70112.

Date Revoked: October 31, 2005.

Reason: Surrendered license voluntarily.

License Number: 000128F

Name: “AA” Pacific Express, Enterprises

Address: 2145 North Tyler Avenue, Suite B, South El Monte, CA 91733.

Date Revoked: November 6, 2005.

Reason: Failed to maintain a valid bond.

License Number: 017441N

Name: Al G. Wichterich Inc. dba Worldwide Express

Address: 9327 Tranquil Park Drive, Spring, TX 77379.

Date Revoked: October 29, 2005.

Reason: Failed to maintain a valid bond.

License Number: 013013N

Name: Alelqui Lines, Inc.

Address: 59-46 64th Street, Maspeth, NY 11378.

Date Revoked: August 13, 2005.

Reason: Failed to maintain a valid bond.

License Number: 002708F

Name: Aloyd Forwarding Company, Inc.

Address: 45 Rason Road, Inwood, NY 11096.

Date Revoked: October 21, 2005.

Reason: Failed to mantain a valid bond.

License Number: 015507N

Name: Ampac Freight Service, Inc.

Address: 3234 Arden Road, Hayward, CA 94554.

Date Revoked: October 26, 2005.

Reason: Failed to maintain a valid bond.

License Number: 019380N

Name: Autolog Forwarding Corp.

Address: 1701 East Linden Avenue, Linden, NJ 07036.

Date Revoked: October 21, 20005.

Reason: Failed to maintain a valid bond.

License Number: 017614N

Name: E-Z Express Corporation

Address: 58 N. Virginia Court, Englewood Cliffs, NJ 07632.

Date Revoked: September 2, 2005.

Reason: Failed to maintain a valid bond.

License Number: 004239F

Name: Emery Global Logistics, Inc.

Address: One Lagoon Drive, Suite 400, Redwood City, CA 94065.

Date Revoked: October 20, 2005.

Reason: Failed to maintain a valid bond.

License Number: 019348NF

Name: Full Package Logistics Inc.

Address: 1890 NW. 82nd Avenue, Suite 101, Miami, FL 33126.

Date Revoked: October 29, 2005.

Reason: Failed to maintain valid bonds.

License Number: 017926N

Name: GQ Logistics, Inc.

Address: 11222 La Cienega Blvd., Suite 510, Inglewood, CA 90304 Date Revoked: October 9, 2005.

Reason: Failed to maintain a valid bond.

License Number: 002953F

Name: General Brokerage Services, Inc.

Address: 5253 NW. 36th Street, Miami Springs, FL 33166.

Date Revoked: November 16, 2005.

Reason: Failed to maintain a valid bond.

License Number: 017080N

Name: General Cargo & Logistics

Address: 3405 Rindge Lane, Redondo Beach, CA 90278.

Date Revoked: November 7, 2005.

Reason: Failed to maintain a valid bond.

License Number: 017443N

Name: Grace Cargo, Inc.

Address: 648 Marsat Court, Suite B, Chula Vista, CA 91911

Date Revoked: October 9, 2005.

Reason: Failed to maintain a valid bond.

License Number: 017129N

Name: Hercules Packing Shipping & Moving Co., Inc.

Address: 23-96 48th Street, Astoria, NY 11103.

Date Revoked: November 6, 2005.

Reason: Failed to maintain a valid bond.

License Number: 019033F

Name: HUA Feng (USA) Logistics Inc.

Address: 11222 S. La Cienega Blvd., Suite 608, Inglewood, CA 90304.

Date Revoked: October 15, 2005.

Reason: Failed to maintain a valid bond.

License Number: 004268F

Name: J & S Universal Services, Inc. dba, Patrick & Rosenfeld Shipping Corp.

Address: 12972 SW. 133 Court, Suite A, Miami, FL 33186.

Date Revoked: October 30, 2005.

Reason: Failed to maintain a valid bond.

License Number: 000379F

Name: Joseph C. Murray & Co., Inc.

Address: 139 Fulton Street, New York, NY 10038.

Date Revoked: November 11, 2005.

Reason: Failed to maintain a valid bond.

License Number: 017848N

Name: K2 International, LLC dba All-Ways Cargo Services.

Address: 2782 Eagandale Blvd., Eagan, MN 55121.

Date Revoked: October 8, 2005.

Reason: Failed to maintain a valid bond.

License Number: 003444N

Name: Kosmo International, Inc.

Address: 2125 Center Avenue, Suite 207A, Fort Lee, NJ 07024.

Date Revoked: October 15, 2005.

Reason: Failed to maintain a valid bond.

License Number: 000128F

Name: Lusk Shipping Company, Inc.

Address: 408 Magazine Corner, New Orleans, LA 70130.

Date Revoked: November 9, 2005.

Reason: Failed to maintain a valid bond.

License Number: 000016F

Name: Major Forwarding Company, Inc.

Address: 159-15 Rockaway Blvd., Jamaica, NY 11434.

Date Revoked: November 6, 2005.

Reason: Failed to maintain a valid bond.

License Number: 003957F

Name: Marmara, Inc.

Address: 6 Self Boulevard, Carteret, NJ 07008.

Date Revoked: October 8, 2005.

Reason: Failed to maintain a valid bond.

License Number: 003326F

Name: Modern Cargo Services, Inc.

Address: 12870 NW 107th Court, Miami, FL 33178.

Date Revoked: November 2, 2005.

Reason: Failed to maintain a valid bond.

License Number: 012361N

Name: North American Van Lines, Inc.

Address: 5001 U.S. Highway 30 West, Ft. Wayne, IN 46618.

Date Revoked: November 1, 2005.

Reason: Surrendered license voluntarily.

License Number: 002474F

Name: Projects Transportation International Ltd.

Address: 10607 Southwest Hwy 1C, P.O. Box 613, Worth, IL 60432.

Date Revoked: November 8, 2005.

Reason: Failed to maintain a valid bond.

License Number: 002946F

Name: R.C.A. Shipping Corp.

Address: 23-41 33rd Avenue, Long Island City, NY 11106.

Date Revoked: November 6, 2005.

Reason: Failed to maintain a valid bond.

License Number: 019170N

Name: Seabound Freight, LLC

Address: 12972 133rd Court, Suite A, Miami, FL 33182.

Date Revoked: October 30, 2005.

Reason: Failed to maintain a valid bond.

License Number: 018110F

Name: Sirva Freight Forwarding, Inc. dba North American International.

Address: 5001 U.S. Highway 30 West, Ft. Wayne, IN 46818.

Date Revoked: November 1, 2005.

Reason: Surrendered license voluntarily.

License Number: 015932N

Name: Solomon Shipping & Trading Inc.

Address: 206 Main Street-Rear, Orange, NJ 07050.

Date Revoked: November 6, 2005.

Reason: Failed to maintain a valid bond.

License Number: 003643F

Name: Suren K. Demirjian dba Surdem International

Address: 136 East 56th Street, Suite 3-K, New York, NY 10022.

Date Revoked: November 6, 2005.

Reason: Failed to maintain a valid bond.

License Number: 003363N and 003363F

Name: Transportation Services International, Inc.

Address: 1418 E. Linden Avenue, Linden, NJ 07036.

Date Revoked: September 14, 2005 and October 20, 2005.

Reason: Failed to maintain valid bonds.

License Number: 019402N

Name: Ubique Logistics, Inc.

Address: 179-14 149th Road, Jamaica, NY 11434.

Date Revoked: November 15, 2005.

Reason: Surrendered license voluntarily.

License Number: 017952N

Name: Uniworld Cargo Shipping Lines, LLC

Address: 4000 West Side Avenue, North Bergen, NJ 07047.

Date Revoked: October 14, 2005.

Reason: Failed to maintain a valid bond.

License Number: 019009NF

Name: Vivek Shipping Company, LLC

Address: 106 Country Mill Lane, Stockbridge, GA 30281.

Date Revoked: October 6, 2005.

Reason: Failed to maintain valid bonds.

License Number: 016535N

Name: World Trans Logistic Inc. dba World Air Logistic Co.

Address: 841 E. Sandhill Avenue, Carson, CA 90746.

Date Revoked: November 6, 2005.

Reason: Failed to maintain a valid bond.

Sandra L. Kusumoto,
Director, Bureau of Certification and Licensing.

[FR Doc. 05-23472 Filed 11-29-05; 8:45 am]

BILLING CODE 6730-01-P